Title 3—

The President

Proclamation 9973 of December 16, 2019

Wright Brothers Day, 2019

By the President of the United States of America

A Proclamation

On December 17, 1903, two visionaries, brothers from Dayton, Ohio, ushered in the dawn of the age of aviation on a wind-swept beach in Kitty Hawk, North Carolina. Wilbur and Orville Wright changed the course of history with the successful maiden flight of a manned, engine-powered aircraft. On Wright Brothers Day, we honor this remarkable achievement, commend the brothers' ingenuity, innovation, passion, and determination, and celebrate the incalculable contributions of aviation to our Nation and the world.

When the Wright Flyer safely landed near Kill Devil Hills, it marked the first step of an aviation journey of countless American pioneers to conquer the skies. In the 116 years since this groundbreaking flight, we have made revolutionary strides in aviation, such as Amelia Earhart crossing the Atlantic and Wiley Post circling the globe. This same fearless American spirit eventually propelled us beyond Earth's atmosphere into space and even placed humans onto the surface of the Moon in an ongoing pursuit of discovery and exploration. Earlier this year, our Nation commemorated the 50th anniversary of the Apollo 11 mission and remembered the triumphant courage and patriotism displayed by those intrepid astronauts. On that remarkable voyage, Commander Neil Armstrong carried a small patch of fabric from the wing of the Wright Brothers' 1903 “Flyer.”

The progress and success of aviation are among our country's greatest achievements. Aviation connects people, commerce, and industry, not merely across the country but across oceans and continents. The economic, strategic, and social benefits of aviation are critical to our national security and prosperity. That is why my Administration is committed to ensuring that the United States remains the world leader in aviation and aerospace innovation. We are improving the design of supersonic jets, for example, and preparing for their reintroduction to civilian flight while also embracing the growth and potential of unmanned aircraft. By working with leaders in the industry, we are advancing the exploratory and commercial capabilities of space technology and cultivating ideas that could revolutionize the future of transportation, enhance national security and defense, and increase efficiency in commerce and emergency management.

Throughout our history, our Republic has been characterized by great men and women, like Wilbur and Orville, who dared to push boundaries, challenge traditional thinking, explore unchartered paths, and embrace the power of possibility. The Wright Brothers' airborne adventure into the North Carolina sky is one of our Nation's seminal milestones and a shining example of the power of the indomitable American spirit, which continues to fuel the next chapter of our history at sea, on land, and in the skies and beyond.

The Congress, by a joint resolution approved December 17, 1963, as amended (77 Stat. 402; 36 U.S.C. 143), has designated December 17 of each year as “Wright Brothers Day” and has authorized and requested the President to issue annually a proclamation inviting the people of the United States to observe that day with appropriate ceremonies and activities.

NOW, THEREFORE, I, DONALD J. TRUMP, President of the United States of America, do hereby proclaim December 17, 2019, as Wright Brothers Day.

IN WITNESS WHEREOF, I have hereunto set my hand this sixteenth day of December, in the year of our Lord two thousand nineteen, and of the Independence of the United States of America the two hundred and forty-fourth.

[FR Doc. 2019-27525

Filed 12-18-19; 8:45 am]

Billing code 3295-F0-P